ENVIRONMENTAL PROTECTION AGENCY

[ER-FRL-8989-7]

Environmental Impact Statements; Notice of Availability

Responsible Agency: Office of Federal Activities, General Information (202) 564-1399 or http://www.epa.gov/compliance/nepa/.

Weekly Receipt of Environmental Impact Statements

Filed 03/29/2010 Through 04/02/2010

Pursuant to 40 CFR 1506.9.

Notice: In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

EIS No. 20100108, Draft EIS, BLM, AZ, Sonoran Solar Energy Project, Construction and Operation of a 3756-megawatt (MW) Concentrated Solar Thermal Power Plant and Ancillary Facilities on 3,702 Acres, Right-of-Way Granting, Maricopa County, AZ, Comment Period Ends: 05/24/2010, Contact: Joe Incardine 801-524-3833.

EIS No. 20100109, Draft Supplement, BR, UT, Narrows Project, Updated Information, To Develop a Supplemental Water Supply for Agricultural and Municipal and Industrial Water Use, Gooseberry Creek, Sanpete County, UT, Comment Period Ends: 05/24/2010, Contact: Kerry Schwartz 801-379-1150.

EIS No. 20100110, Final EIS, BR, CA, Los Vaqueros Reservoir Expansion Project, To Develop Water Supplies Environmental Water Management that Supports Fish Protection, Habitat Management, and other Environmental Water Needs in the Delta and Tributary River Systems, San Francisco Bay Area, Contra Costa County, CA, Wait Period Ends: 05/10/2010, Contact: Louis Moore 916-978-5106.

EIS No. 20100111, Draft EIS, BLM, CA, Ridgecrest Solar Power Project, Construction and Operation of a Concentrated Solar Powered Electric Generating Facility, Application for a Right-of-Way Grant, California Desert Conservation Area Plan Amendment, Kern County, CA, Comment Period Ends: 07/08/2010, Contact: Janet Eubanks 951-697-5376.

EIS No. 20100112, Final EIS, USFWS, CA, Paiute Cutthroat Trout Restoration Project, Eradication of Non-Native Trout Species from 11 Stream Miles of Silver King Creek, Alpine County, CA, Wait Period Ends: 05/10/2010, Contact: John Robles 916-414-6464.

EIS No. 20100113, Final EIS, FHWA, ID, US-95 Garwood to Sagle (from MP-438.4 to MP-469.75) Transportation Improvements to Present and Future Traffic Demand, Funding, NPDES Permit and U.S. Army COE Section 404 Permit, Kootenai and Bonner Counties, ID, Wait Period Ends: 05/10/2010, Contact: Ross Blanchard 208-334-9180.

EIS No. 20100114, Draft EIS, USFS, SD, Mystic Range Project Area, Propose to Reauthorize Grazing of Domestic Livestock on Eight Allotments, Black Hills National Forest, Pennington and Custer Counties, SD, Comment Period Ends: 05/24/2010, Contact: Katie Van Alstyne 606-343-1567.

EIS No. 20100115, Draft EIS, BLM, CA, Genesis Solar Energy Project, Application for a Right-of-Way Grant to Construct, Operate and Decommission a Solar Thermal Facility on Public Lands, California Desert Conservation Area Plan, Riverside County, CA, Comment Period Ends: 07/08/2010, Contact: Allison Shaffer 760-833-7104.

EIS No. 20100116, Draft EIS, FHWA, NC, Mid-Currituck Bridge Study, Proposed Transportation Improvements, Currituck and Dare Counties, NC, Comment Period Ends: 06/07/2010, Contact: John F. Sullivan 919-856-4346.

EIS No. 20100117, Draft EIS, USFS, WV, Fernow Experimental Forest Project, To Continue Long-Term Research Studies Involving Removal of Trees, Prescribed Burning, Fertilization, and Use of Herbicides and other Management Activities to Control Invasive Plant Species, Tucker County, WV, Comment Period Ends: 05/25/2010, Contact: Mary Beth Adams 304-478-2000 Ext 130.

EIS No. 20100118, Draft EIS, USACE, KY, East Kentucky Power Cooperative, Proposed Baseload Power Plant, to Constructing and Operating a 278 Megawatt Circulating Fluidized Bed Electric Generating Unit (CFD), and Associated Infrastructure at the Existing J.K. Smith Power Station, Application for U.S. Army COE Section 10 and 404 Permits, Clark County, KY, Comment Period Ends: 05/24/2010, Contact: Michael Hasty 502-315-6676.

The U.S. Department of Army, Corps of Engineers has adopted the U.S. Department of Energy's FEIS #20020508 filed 12/06/2002. The Corps of Engineers was not a Cooperating Agency on the above FEIS. Under Section 1506.3(b) of the CEQ Regulations the Adopting Agency shall treat the statement as a draft and Recirculate it.

EIS No. 20100119, Final EIS, NPS, ND, Theodore Roosevelt National Park, Elk Management Plan, Implementation, Billing and McKenzie Counties, ND, Wait Period Ends: 05/10/2010, Contact: Valerie Naylor 701-623-4466.

EIS No. 20100120, Final EIS, USFS, CO, Rio de los Pinos Vegetation Management Project, Proposes to Salvage Engelmann Spruce Trees that have been killed by, or are Infested with, Spruce Beetle, Conejos Peak Ranger District, Rio Grande National Forest, Conejos, Rio Grande and Archuleta Counties, CO, Wait Period Ends: 05/10/2010, Contact: Kevin Duda 719-274-8971.

Dated: April 6, 2010.
Ken Mittelholtz,
Deputy Director, NEPA Compliance Division, Office of Federal Activities.

[FR Doc. 2010-8129 Filed 4-8-10; 8:45 am]

BILLING CODE 6560-50-P